ENVIRONMENTAL PROTECTION AGENCY

[FRL-8311-9]

Correction to the Spring 2007 Regulatory Agenda

AGENCY: Environmental Protection Agency (EPA).

ACTION: Correction.

SUMMARY: On Monday, April 30, 2007, the Regulatory Agenda of the Federal Regulatory and Deregulatory Actions for the Environmental Protection Agency was published in the Federal Register (72 FR 23156). The regulatory agenda entry for sequence number 2750, “Action on Petition to List Diesel Exhaust as a Hazardous Air Pollutant,” contains erroneous information. This notice corrects the information that was published in the Federal Register (72 FR 23191) under the heading of Abstract.

FOR FURTHER INFORMATION CONTACT: Jaime Pagan, Office of Air Quality Planning and Standards, Office of Air and Radiation, Environmental Protection Agency (C304-01), Research Triangle Park, NC 27711; telephone number: (919) 541-5340; fax number: (919) 541-5450; e-mail address: pagan.jaime@epa.gov.

SUPPLEMENTARY INFORMATION: The Environmental Protection Agency (EPA) publishes the semiannual regulatory agenda to update the public about:

• Regulations and major policies currently under development;

• Reviews of existing regulations and major policies; and

• Rules and major policymakings completed or canceled since the last Agenda.

The regulatory agenda entry in the proposed rule section for sequence number 2750, “Action on Petition to List Diesel Exhaust as a Hazardous Air Pollutant” (72 FR 23191) contains erroneous information. The Agency did not intend to announce a decision to deny the petition. This notice corrects the information that was provided under the heading of Abstract for the Action on Petition to List Diesel Exhaust as a Hazardous Air Pollutant. The following agenda item replaces in its entirety the agenda item that was provided in the EPA's Semiannual Regulatory Agenda for sequence number 2750, Action on Petition to List Diesel Exhaust as a Hazardous Air Pollutant:

Priority: Substantive, Nonsignificant.

Legal Authority: Clean Air Act Section 112(b)(3).

CFR Citation: 40 CFR Part 63.

Legal Deadline: Initial Action, Judicial, 5/30/07. As per 12/2005 Consent Decree, extended several times from original date of 6/12/2006. Final, Judicial 6/26/07, as per 12/2005 Consent Decree. Only required if Agency proposes to grant petition.

Abstract: Section 112 of the Clean Air Act contains a mandate for EPA to evaluate and control emissions of HAP from stationary sources. Section 112(b)(1) of the Clean Air Act includes the original list of hazardous air pollutants (HAP). Section 112(b) of the Clean Air Act requires EPA to review the original list periodically and, where appropriate, revise the list by rule. In addition, under section 112(b)(3) of the Clean Air Act, any person may petition EPA to modify the list by adding or deleting one or more substances. On August 11, 2003, Environmental Defense submitted a petition to add diesel exhaust to the list of HAP. EPA is in the process of considering whether the Agency should take further action to address stationary diesel emissions and, if so, what actions may be appropriate. EPA intends to address this petition in the context of this process.

The current deadline for signature of the Federal Register notice is May 30, 2007. (Received extension by litigants December 14, 2006; Received another extension by litigants March 14, 2007; Received another extension by litigants April 12, 2007.)

Dated: May 3, 2007.
Brian F. Mannix,
Associate Administrator, Office of Policy, Economics & Innovation.

[FR Doc. E7-9013 Filed 5-9-07; 8:45 am]

BILLING CODE 6560-50-P